ENVIRONMENTAL PROTECTION AGENCY

[ER-FRL-6693-2]

Environmental Impact Statements; Notice of Availability

Responsible Agency: Office of Federal Activities, General Information, (202) 564-7167 or http://www.epa.gov/compliance/nepa/

Weekly receipt of Environmental Impact Statements

Filed 11/12/2007 through 11/16/2007

Pursuant to 40 CFR 1506.9.

EIS No. 20070495, Final Supplement, APH, 00, Importation of Solid Wood Packing Material, To Reevaluate and Refine Estimates of Methyl Bromide Usage in the Treatment, Implementation, United States. Wait Period Ends: 12/24/2007. Contact: David A. Bergston, 301-734-6103.

EIS No. 20070496, Draft EIS, FRC, 00, Fayetteville/Greenville Expansion Project, Construction and Operation of the Natural Gas Pipeline Facilities in Arkansas and Mississippi. Comment Period Ends: 01/07/2008. Contact: Andy Black, 1-866-208-3372.

EIS No. 20070497, Draft EIS, FAA, CA, Horizon Air Service to Mammoth Yosemite Airport Project, Proposed Operations Specifications Amendment to Provide Scheduled Air Service, Town of Mammoth Lakes, Mono County, CA. Comment Period Ends: 01/11/2008. Contact: Chuck Cox, 425-227-2243.

EIS No. 20070498, Draft EIS, FHW, UT, I-15 Corridor Project, Transportation Improvement from Utah County to Salt Lake County, UT. Comment Period Ends: 01/11/2008. Contact: Carlos Machado, 801-963-0182.

EIS No. 20070499, Final EIS, FRC, 00, Klamath Hydroelectric Project, Continued Operation for Hydropower License FERC No. 2082-27, Klamath River, Klamath County, OR and Siskiyou County, CA. Wait Period Ends: 12/24/2007. Contact: John Mudre, 202-502-8902.

Amended Notices

EIS No. 20070409, Draft EIS, AFS, MT, Beartooth Ranger District Travel Management Planning, Proposing to Designate Routes for Public Motorized Use, and Change Management of Pack and Saddle Stock on Certain Trail, Beartooth Ranger District, Custer National Forest, Carbon, Stillwater, Sweet Grass, and Park Counties, MT. Comment Period Ends: 12/19/2007. Contact: Doug Epperly, 406-657-6205 Ext 225. Revision for FR Notice Published 10/05/2007: Extending Comment Period from 11/19/2007 to 12/19/2007.

EIS No. 20070478, Final EIS, AFS, AK, Helicopter Access to Conduct Forest Inventory and Analysis (FIA) in Wilderness, in Tongas and Kedgwick National Forest, AK. Wait Period Ends: 12/24/2007. Contact: Ken Post, 907-586-8796. Review to FR Notice Published 11/09/2007: Extending Wait Period from 12/10/2007 to 12/24/2007 and Correction to Title.

Dated: November 19, 2007.
Robert W. Hargrove,
Director, NEPA Compliance Division, Office of Federal Activities.

[FR Doc. E7-22852 Filed 11-21-07; 8:45 am]

BILLING CODE 6560-50-P